DEPARTMENT OF LABOR

Employment and Training Administration

[TA-W-54,116]

Remington Products Company L.L.C., Bridgeport, Connecticut; Notice of Termination of Investigation

Pursuant to section 221 of the Trade Act of 1974, as amended, an investigation was initiated on January 30, 2004, in response to a worker petition filed on behalf of workers at Remington Products Company L.L.C., Bridgeport, Connecticut.

The petitioner has requested that the petition be withdrawn. Consequently, the investigation has been terminated.

Signed at Washington, DC this 19th day of February 2004.
Elliott S. Kushner,
Certifying Officer, Division of Trade Adjustment Assistance.

[FR Doc. 04-5086 Filed 3-5-04; 8:45 am]

BILLING CODE 4510-30-P